DEPARTMENT OF STATE

[Public Notice 7201]

Waiver Pursuant to Section 7076(d)(2) of the Department of State, Foreign Operations, and Related Programs Appropriations Act, 2010 (Div. F, P.L. 111-117) Relating to Assistance for the Government of Afghanistan

Pursuant to the authority vested in me as Secretary of State, including under section 7076(d)(2) of the Department of State, Foreign Operations, and Related Programs Appropriations Act, 2010 (Div. F, P.L. 111-117) (“the Act”), I hereby waive the requirement in section 7076(d)(2) of the Act to certify that the Government of Afghanistan is cooperating fully with United States efforts against the Taliban and Al Qaeda and to reduce poppy cultivation and illicit drug trafficking and report that it is vital to the national security interests of the United States to do so.

This waiver shall be reported to the Congress promptly and published in the Federal Register.

Dated: September 28, 2010.
Hillary Rodham Clinton,
Secretary of State.

[FR Doc. 2010-25609 Filed 10-8-10; 8:45 am]

BILLING CODE 4710-17-P